DEPARTMENT OF AGRICULTURE

National Institute of Food and Agriculture

Announcement of Requirements and Registration for U.S. Department of Agriculture (USDA) Innovations in Food and Agricultural Science and Technology (I-FAST) Prize Competition

AGENCY: National Institute of Food and Agriculture, USDA.

ACTION: Notice.

SUMMARY: The National Institute of Food and Agriculture (NIFA) is announcing the I-FAST prize competition (the “I-FAST Competition” or the “Competition”) to develop and implement the Innovations in Food and Agricultural Science and Technology (I-FAST) Program. USDA NIFA will partner with the National Science Foundation (NSF) Innovation Corps (I-Corps) to provide entrepreneurship training to USDA NIFA grantees under this I-FAST pilot program. The goals are to identify valuable product opportunities that can emerge from NIFA supported academic research. Selected USDA NIFA I-FAST project teams will have the opportunity to concurrently participate in the educational programs with NSF I-Corps awardees. Over a period of six months the USDA NIFA supported teams in the I-FAST program will learn what it will take to achieve an economic impact with their particular innovation. The final goal of the I-FAST Competition is to facilitate technology transfer of innovations that can make an impact in the marketplace and the global economy.

DATES: Competition Submission Period—Pre-Application and Evaluation Interviews:

Pre-Application Open Period: August 3, 2017 to September 8, 2017.

Pre-Application Evaluation and Interviews: September 11, 2017 to September 14, 2017.

Full Application Open Period: September 15, 2017 to October 6, 2017.

Final Evaluation and Judging—Full Application: October 9, 2017 to October 11, 2017.

Verification of Winners: October 13, 2017.

Announcement of Winner(s): October 17, 2017.

NSF I-Corps Training for Winner(s): Winning team(s) will need to be available to travel to and attend one of the following NSF I-Corps training sessions with the following dates and locations:

Winter 2018 COHORTS:

Winter Cohort #1: Location TBD (Likely DC metro area).

• Kickoff (on-site): January (arrive 16) 17-19.

• Web sessions (online): Thursdays 1-4 p.m. ET—January 25, February 1, 8, 15, 22.

Lessons Learned (on-site): March 1-2.

Winter Cohort #2: Location TBD (Likely Atlanta metro area).

• Kickoff (on-site): January (arrive 21) 22-24.

• Web sessions (online): Mondays 1-4 p.m. ET—January 29, February 5, 12, 19, 26.

Lessons Learned (on-site): March 5-6.

The Pre-Application Phase Competition Submission Period begins August 3, 2017 at 10:00 a.m. ET and ends September 8, 2017 at 12:00 a.m. ET. USDA NIFA's receiving computer set to Eastern Time is the official time keeping device for the Competition.

Pre-Application Interviews will take place September 11, 2017 to September 14, 2017.

The Full-Application Phase Competition Submission Period begins September 15, 2017 at 10:00 a.m. ET and ends October 6, 2017 at 12:00 a.m. ET. USDA NIFA's receiving computer set to Eastern Time is the official timekeeping device for the Competition.

Competition dates are subject to change. Entries submitted before or after the Competition Submission Period will not be reviewed or considered for award. For more details, please visit the www.challenge.gov Web site.

FOR FURTHER INFORMATION CONTACT: Changes or updates to the Competition rules will be posted and can be viewed at https://nifa.usda.gov/program/innovations-food-and-agricultural-science-and-technology-i-fast-prize-competition. Questions about the Competition can be directed to Scott Dockum at sdockum@nifa.usda.gov, or phone 202-720-6346.

SUPPLEMENTARY INFORMATION:

Subject of Challenge Competition

The USDA National Institute of Food and Agriculture (NIFA) mission is to invest in and advance agricultural research, education, and extension to solve societal challenges. As part of this mission NIFA is charged with providing grant funding for research, education, and extension that address key problems of national, regional, and multi-state importance in sustaining all components of agriculture. A majority of NIFA grant funding is provided to academic institutions to focus on developing research in the areas of farm efficiency and profitability, ranching, renewable energy, forestry (both urban and agroforestry), aquaculture, rural communities and entrepreneurship, human nutrition, food safety, biotechnology, and conventional breeding.

USDA NIFA will partner with the NSF Innovation Corps (I-Corps) who will provide an Entrepreneurial Immersion course and training to USDA NIFA grantees through this I-FAST Competition. The goals of this Competition are to spur translation of fundamental research to the market place, to encourage collaboration between academia and industry, and to train NIFA-funded faculty, students and other researchers to understand innovation and entrepreneurship.

The purpose of the I-FAST Competition is to identify NIFA-funded research teams who will receive additional support, in the form of mentoring, training, and funding to accelerate the translation of knowledge derived from fundamental research into emerging products and services that can attract subsequent third-party funding. NIFA-funded research teams will be required to participate in Entrepreneurial Immersion courses provided by the NSF I-Corps program. Each team that receives an I-FAST award is required to participate in the following NSF I-CORP activities: (1) Attendance by the entire team at an on-site three-day NSF I-CORP Entrepreneurial Immersion course; (2) Mandatory participation in the I-CORPs weekly Webinars following the in-person three day on-site meeting; (3) Completion of approximately 15 hours of preparation per week over the duration of the program; (4) Attendance of a two day lessons learned in-person meeting at the end of the training. During the training, teams are expected to engage in at least 100 contacts with potential customers and provide a 5-page summary report back to USDA NIFA on the outcome of the training and milestones to be met by the team (i.e., commercialization, market proposition, and lessons learned from the program). The major focus of I-FAST is for the selected teams (an I-FAST team includes the Principal Investigator (PI), the Entrepreneurial Lead, and the Mentor) to participate in an Entrepreneurial Immersion course provided by the NSF I-Corps program. The NSF I-Corps is a program specifically designed to broaden the impact of select, basic research projects by preparing scientists and engineers to focus beyond the laboratory. Leveraging experience and guidance from established entrepreneurs and a targeted curriculum within the NSF I-Corp program, USDA I-FAST teams will learn to identify valuable product opportunities that can emerge from USDA NIFA supported academic research. The I-FAST Competition will help create a stronger national ecosystem for innovation that couples scientific discovery with technology development to address agricultural and societal needs.

Eligibility Rules for Participating in the Competition

The I-FAST Competition is open to teams (“Teams” or “Participants”) that are made up of individuals from academic/university institutions that have received a prior award from NIFA (in a scientific or engineering field relevant to the proposed innovation) that is currently active or that has been active within five years from the closing date of the I-FAST deadline. The lineage of the prior award extends to the PI, Co-PIs, Senior Personnel, Postdoctoral Scholars, Professional Staff, or others who were supported under the NIFA award. The prior award could range from a modest single-investigator award to a large, distributed center and also includes awards involving students.

To be eligible to win a prize under the Competition, Teams:

(1) Shall have registered to participate in the Competition under the rules;

(2) Shall have complied with all the requirements of the Competition rules;

(3) May not include a Federal entity or Federal employee acting within the scope of their employment; and

(4) In the case of a private entity Team member, the member shall be incorporated in and maintain a primary place of business in the United States. In the case of an individual Team member, shall be a citizen or permanent resident of the United States.

Makeup of I-FAST Competition Teams: Each Team shall consist of three members:

(1) Entrepreneurial Lead (EL).

(2) I-FAST Team Mentor.

(3) Principal Investigator (PI).

I-FAST teams are made up of individuals from an academic/university institution except for the Mentor who may reside with an outside organization as described below.

The Entrepreneurial Lead (EL) could be a postdoctoral scholar, graduate, or other student with relevant knowledge of the technology located at the academic/university institution and a deep commitment to investigate the commercial landscape surrounding the innovation. The EL should also be capable and have the will to support the transition of the technology, should the I-FAST Team's project demonstrate the potential for commercial viability. The EL will be responsible for: (1) Developing the team to include the mentor and PI, (2) leading the development of the pre-application, participating in the I-FAST interviews and developing the full application, if selected, (3) starting and completing all training activities in the Entrepreneurial Immersion course provided by the NSF I-Corps program, (4) communicating and coordinating with team members to achieve the goals of the team, (5) developing and monitoring team activity milestones from the Entrepreneurial Immersion course, (6) ensuring the team milestones are completed on time, and (7) ensuring the team is in communication with the NIFA I-FAST Competition Director and the NSF I-Corps Program Director as needed.

The I-FAST Teams Mentor will typically be an experienced or emerging entrepreneur with proximity to the academic/university institution and have experience in transitioning technology out of the academic arena. The Mentor should be selected as a third-party resource, or may be a person that has an established relationship with the team (e.g., Board Member), but cannot be an employee nor directly involved with the technology development. Ideally, the Industry Expert should have prior experience developing and commercializing other products within the broader technology space related to the specific project under development. The EL will need to identify a Mentor that has business expertise in the proposed technology sector and has entrepreneurial experience. A Mentor will be someone with the right “rolodex” of contacts in the technology area of commercialization which are critical for “getting the technology out of the university.” The EL of the team should contact their University Technology Transfer Office for ideas of potential Mentors. The I-FAST Team's Mentor will be responsible for guiding the team forward using existing entrepreneurial experience and tracking the team's progress through regular communication with the EL, PI, the NIFA I-FAST competition director, and the NSF I-Corps Program Director, as needed.

The PI will have in-depth knowledge of the innovation developed under the earlier USDA NIFA Grant and will be responsible for: (1) Coordinating with the university on the transfer of prize funds from NIFA, if the team is selected, (2) tracking of the prize funding for team activities, (3) reporting to NIFA on disbursements and obligations of the prize funding, (4) guiding the EL and Mentor on technical aspects of the innovation, (5) communicating as needed with the NIFA I-FAST Competition Director and the NSF I-Corps Program Director, (6) ensuring the EL meets the required milestones for the NSF I-CORP training, and (7) participating as a team member. The Principal Investigator who received the earlier NIFA grant for the technology is allowed to participate on the team, but cannot be the Entrepreneurial Lead.

During the I-Corps course, each participating team, including all its team members, will be required to:

• Attend, in person, an evening reception and 3-day kick-off Entrepreneurial Immersion course;

• Conduct approximately 100 customer interviews over the 6-week program, and submit interview summary reports. This process of customer discovery “outside the building” is expected to require a minimum of 15 hours per week for at least five weeks;

• Participate in 5 weekly webinar sessions and submit regular updates to the team's business model canvas. In addition, it is expected that I-Corps teams will take advantage of instructor office hours; and

• Attend, in person, the final 2-day course close out/lessons learned session (to be held in the same region as the kick-off course).

If one or more team members cannot meet these requirements, the team should not pursue the program.

Amount of the Prize

The USDA NIFA I-FAST Competition Prize Purse will be a maximum of $400,000 which will be divided to provide $50,000 each to a maximum of eight (8) Teams. Prize Purse funds are required to be used by winning Teams to fully participate in the NSF I-Corps program curriculum. USDA NIFA reserves the right to award less than the maximum number of available prizes.

Payment of the Prize

Prizes awarded under this Competition will be paid by electronic funds transfer to the academic/university institution the Team(s) represent(s). Prize winners will be required to complete the required financial documents and forms to be supplied by NIFA to set up the electronic transfer. All Federal, state and local taxes are the sole responsibility of the winner(s).

Submission Process for Participants

The Competition will have a three-phase selection process. Initially, Teams will submit a pre-application. From the pre-applications, USDA NIFA will conduct phone interviews. Selected Teams will be invited to submit a full application. From the full applications, USDA NIFA will select the winning Team(s).

Participants will register for the Competition and will submit the pre-application to the Competition via www.challenge.gov. Teams can enter the contest by submitting the pre-application through the “Enter a Submission” function on Challenge.gov, and then send the pre-application, with name and contact info, to contest@nifa.usda.gov. The pre-application shall contain the following information:

Prepare a three-page Executive Summary that describes the following:

(1) Composition of the Team and roles (EL, PI, Mentor) of the members proposing to undertake the commercialization feasibility research.

(2) Point of Contact information for ALL of the members.

(3) Relevant current/previous NIFA award(s) including award number, Title of the Project, and the NIFA program the award was funded under.

(4) Brief description of the potential commercial impact.

(5) Brief description of the current commercialization plans for the innovation.

After the interviews, Teams that are selected to submit a full application will submit it via challenge.gov through the “Enter a Submission” function and then send the application with name and contact info to contest@nifa.usda.gov. The full application shall include the following project description information:

1. I-Corps Team (One Page Limit)

a. Briefly describe the I-Corps team and provide rationale for its formation, focusing on members' entrepreneurial expertise, relevance to the innovation effort, and members' experience in collaborating on previous projects.

b. Include point of contact information for all team members.

2. Lineage of the Proposed Innovation (One Page Limit)

a. Provide the current/previous NIFA award(s) including award number, Title of Project and the NIFA program the award was funded under.

b. Briefly describe how this research has led the Team to believe that a commercial opportunity exists for the effort moving forward.

3. Description of the Potential Commercial Impact (Two Page Limit)

a. Provide a brief profile of a typical customer of the proposed innovation.

b. Describe the customer need that you believe will be met by the proposed innovation.

c. Describe how the customer currently meets those needs.

d. Your approach—What is the proposed innovation? How does it relate to the fundamental research already conducted under previous award(s)?

e. How much do you think a customer would pay for your solution?

4. Brief Description of the Project Plan (One Page Limit)

a. Current Status—In what stage is the development: Proof-of-principle, proof-of-concept, prototype (alpha, beta), etc . . .

b. Provide a brief description of the proof-of-concept or technology demonstration that will be provided at the end of the project.

The total page limit for the project description full application is five (5) pages.

From the Teams submitting full applications, a maximum of eight Teams will be selected as winners to enter into the I-FAST Program.

Judging

The information on the Competition will be provided via www.challenges.gov.

USDA NIFA will screen all entries for eligibility and completeness. Entries from Teams that do not meet the eligibility requirements and/or that fail to include required submission elements will not be evaluated or considered for award. Eligible and complete entries will be judged by a fair and impartial panel of individuals from USDA NIFA and NSF (the “Judging Panel”).

Pre-Application Evaluation: The Judging Panel will evaluate the pre-application to determine the following:

(1) Did the technology proposed receive past NIFA funding?

(2) Does the team have the required team members and are the roles of each team member clearly described?

(3) Does the commercialization plan provide a good understanding of the team's knowledge of the current state of the art and how the technology could enter into a potential market?

(4) Were the page limits met?

Following the evaluation, the Judging Panel will conduct a phone interview with each selected team. This will emphasize the time commitment and availability of the entire team to complete the NSF I-CORPS program during one of the winter 2018 cohorts.

Full-Application Evaluation: The Judging Panel will evaluate the Full-application to determine the following and approximately equal consideration will be given to each criterion except for item (3), which will receive twice the value of any of the other items:

1. I-Corps Team: Does the application clearly describe: The I-Corps team, the rationale for the team's formation, members' entrepreneurial expertise, relevance to the innovation effort, and members' experience in collaborating on previous projects?

2. Lineage of the Proposed Innovation: Does the application provide a table of previous NIFA awards and identify the original Principle Investigator (PI)? Does the application clearly describe how this research has led the Team to believe that a commercial opportunity exists for the effort moving forward?

3. Description of the Potential Commercial Impact: Does the application clearly describe the profile of a typical customer of the proposed innovation? Does the application describe the customer needs to be met by the proposed innovation? Does the application describe how the customer currently meets those needs? Does the application clearly describe the proposed innovation and how it relates to the fundamental research already conducted under previous award(s)? Does the application describe how much a customer would pay for the solution?

4. Project Plan: Does the project plan clearly describe the current status including the stage of development? Does the application provide a description of the proof-of-concept or technology demonstration that will be provided at the end of the project?

5. Page Limits: Did the application meet the required page limits?

Additional Rules and Conditions

A. General Conditions

By entering the Competition, each Team guarantees that its entry complies with all applicable Federal and state laws and regulations.

Each Team warrants that its entry is free of viruses, spyware, malware, and any other malicious, harmful, or destructive device. Teams submitting entries containing any such device will be held liable and may be prosecuted to the fullest extent of the law.

Entries containing any matter which, in the sole discretion of USDA NIFA, is indecent, defamatory, in obvious bad taste, demonstrates a lack of respect for public morals or conduct, promotes discrimination in any form, shows unlawful acts being performed, is slanderous or libelous, or adversely affects the reputations of USDA NIFA or NSF will not be accepted. If USDA NIFA, in its sole discretion, finds any entry to be unacceptable, then such entry shall be deemed disqualified and will not be evaluated or considered for award.

The winning Team(s) must comply with all applicable laws and regulations regarding Prize Purse receipt and disbursement.

USDA NIFA's failure to enforce any term of any applicable rule or condition shall not constitute a waiver of that term.

B. Entry Conditions, Release & Liability

By entering the Competition, each Team agrees to:

(1) Comply with and be bound by all applicable rules and conditions, and the decisions of USDA NIFA, which are binding and final in all matters relating to this Competition.

(2) Release and hold harmless USDA NIFA and NSF and all their respective past and present officers, directors, employees, agents, and representatives (collectively the “Released Parties”) from and against any and all claims, expenses, and liability arising out of or relating to the Team's entry or participation in the Competition and/or the Team's acceptance, use, or misuse of the Prize Purse or recognition. Provided, however, that Participants are not required to waive claims arising out of the unauthorized use or disclosure by USDA NIFA or NSF of the intellectual property, trade secrets, or confidential business information of the Participant.

The Released Parties are not responsible for: (1) Any incorrect or inaccurate information, whether caused by Teams, printing errors, or by any of the equipment or programming associated with or used in the Competition; (2) technical failures of any kind, including, but not limited to, malfunctions, interruptions, or disconnections in phone lines or network hardware or software; (3) unauthorized human intervention in any part of the entry process for the Competition; (4) technical or human error that may occur in the administration of the Competition or the processing of entries; or (5) any injury or damage to persons or property that may be caused, directly or indirectly, in whole or in part, from Team's participation in the Competition or receipt or use or misuse of the Prize Purse. If for any reason a Team's entry is confirmed to have been deleted erroneously, lost, or otherwise destroyed or corrupted, that Team's sole remedy is to submit another entry in the Competition.

C. Termination and Disqualification

USDA NIFA reserves the authority to cancel, suspend, and/or modify the Competition, or any part of it, if any fraud, technical failures, or any other factor beyond USDA NIFA's reasonable control impairs the integrity or proper functioning of the Competition, as determined by USDA NIFA in its sole discretion.

USDA NIFA reserves the right to disqualify any Team it believes to be tampering with the entry process or the operation of the Competition or to be acting in violation of any applicable rule or condition.

Any attempt by any person to undermine the legitimate operation of the Competition may be a violation of criminal and civil law, and, should such an attempt be made, USDA NIFA reserves the authority to seek damages from any such person to the fullest extent permitted by law.

D. Verification of Potential Winner(s)

All potential Competition winners are subject to verification by USDA NIFA whose decisions are final and binding in all matters related to the Competition.

Potential winner(s) must continue to comply with all terms and conditions of the Competition rules, and winning is contingent upon fulfilling all requirements. The potential winner(s) will be notified by email and/or telephone. If a potential winner cannot be contacted, or if the notification is returned as undeliverable, the potential winner forfeits. In the event that a potential winner, or an announced winner, is found to be ineligible or is disqualified for any reason, USDA NIFA may make award, instead, to the next runner up, as previously determined by the Judging Panel.

Prior to awarding the Prize Purse, USDA NIFA will verify that the potential winner(s) is/are not suspended, debarred, or otherwise excluded from doing business with the U.S. Federal Government. Suspended, debarred, or otherwise excluded parties will not be eligible to win the Competition.

E. Intellectual Property

By entering the Competition, each Team warrants that it is the author and/or authorized owner of its entry, and that the entry is wholly original with the Team (or is an improved version of an existing project plan the Team is legally authorized to enter into the Competition), and that the submitted entry does not infringe on any copyright, patent, or any other rights of any third party. Each Team agrees to hold the Released Parties harmless for any infringement of copyright, trademark, patent, and/or other real or intellectual property right that may be caused, directly or indirectly, in whole or in part, from that Team's participation in the Competition.

All legal rights in any materials produced or submitted in entering the Competition are retained by the Team and/or the legal holder of those rights. Entry into the Competition constitutes express authorization for USDA NIFA, NSF, and the Judging Panel to review and analyze any and all aspects of submitted entries, including any trade secret or proprietary information contained in or evident from review of the submitted entries.

F. Privacy & Disclosure Under FOIA

Personal and contact information is not collected for commercial or marketing purposes. Information submitted throughout the Competition will be used only to communicate with Teams regarding entries and/or the Competition.

Teams' entries to the Competition may be subject to disclosure under the Freedom of Information Act (“FOIA”). If a Team believes that all or part of its Competition entry is protected from release under FOIA (e.g., if the information falls under FOIA exemption #4 for “trade secrets and commercial or financial information obtained from a person [that is] privileged or confidential”) the Team will be responsible for clearly marking the page(s)/section(s) of information it believes are protected.

Authority: 15 U.S.C. 3719.

Done at Washington, DC, this 27th day of July, 2017.
Kim L. Hicks,
Branch Chief, Grants and Agreements Management Branch USDA, Agricultural Research Service, Financial Management and Agreements Division.

[FR Doc. 2017-16342 Filed 8-2-17; 8:45 am]

BILLING CODE 3410-22-P